DEPARTMENT OF THE INTERIOR

Bureau of Land Management

[LLAZC01000.L51010000.FX0000.LVRWA09A2310; AZA 32315]

Notice of Intent To Prepare an Environmental Impact Statement for the Proposed Mohave County Wind Farm Project, Mohave County, AZ

AGENCY: Bureau of Land Management, Interior.

ACTION: Notice of Intent.

SUMMARY: In compliance with the National Environmental Policy Act of 1969, as amended, and the Federal Land Policy and Management Act of 1976 as amended, the Bureau of Land Management (BLM) Kingman Field Office, Kingman, Arizona, intends to prepare an Environmental Impact Statement (EIS) and, by this notice, is announcing the beginning of a second scoping process to solicit public comments and identify issues. The original Notice of Intent (NOI) was published in the Federal Register on November 20, 2009 (74 FR 60289). This new notice reflects significant changes to the project area.

DATES: This notice initiates a second public scoping process for this EIS. Comments on issues may be submitted in writing until August 25, 2010. The dates and locations of any scoping meetings will be announced at least 15 days in advance through the local news media, newspapers, and the BLM Web site at: http://www.blm.gov/az/st/en/prog/energy/wind/mohave.html. In order to be included in the Draft EIS, all comments must be received prior to the close of the scoping period or 15 days after the last public meeting, whichever is later. We will provide additional opportunities for public participation upon publication of the Draft EIS.

ADDRESSES: You may submit comments related to the Mohave County Wind Project by any of the following methods:

• Web site: http://www.blm.gov/az/st/en/prog/energy/wind/mohave.html;

• E-mail: KFO_WindEnergy@blm.gov;

• Fax: (928) 718-3761; or

• Mail: Mohave County Wind Farm, BLM, Kingman Field Office, 2755 Mission Boulevard, Kingman, Arizona 86401.

Documents pertinent to this proposal may be examined at the BLM Kingman Field Office, Kingman, Arizona.

FOR FURTHER INFORMATION CONTACT: If you need more information or want to add your name to our mailing list, contact Jerry Crockford, BLM-contracted Project Manager, telephone (505) 360-0473, address 2755 Mission Boulevard, Kingman, Arizona 86401; e-mail KFO_WindEnergy@blm.gov; or Melissa Warren, Project Manager, Renewable Energy Coordination Office, telephone (928) 348-4446; address 2755 Mission Boulevard, Kingman, Arizona 86401; e-mail KFO_WindEnergy@blm.gov.

SUPPLEMENTARY INFORMATION: British Petroleum Wind Energy North America (BPWE), has applied for a right-of-way (ROW) authorization to construct, operate and maintain a 500 megawatt (MW) wind farm on approximately 31,338 acres of Federal land managed by the BLM and approximately 8,960 acres of Federal land managed by the Bureau of Reclamation (BOR), totaling approximately 40,298 acres of Federal land. The project area is located in the White Hills area approximately 40 miles northwest of Kingman, Arizona, approximately 9 miles south of the Colorado River, and approximately 20 miles southeast of Hoover Dam. The project will consist of up to 335 wind turbine generators (WTGs). Construction may consist of multiple phases for access roads and ancillary facilities. The WTGs are anticipated to range in productive output from 1.5 to 3.0 MW each. To the extent possible, existing roads would be used for access to the project, supplemented with internal access/service roads to each WTG. Ancillary facilities may include pad-mounted transformers, an underground 34.5-kilovolt (kV) electrical collection system between the turbines, distribution connector lines (either underground or above-ground) tying the turbine strings to either a 345- or 500-kV electrical substation, and either a 345- or 500-kV overhead transmission line from the substation to a new switchyard where the project would interconnect with an existing transmission line in the area.

BPWE submitted a prior application for this project requesting a ROW authorization to construct, operate, and maintain a 500 MW wind farm on approximately 45,420 acres of Federal lands managed by the BLM; the prior application also anticipated that WTGs could be placed on approximately 4,360 acres of private lands. The BLM published the first NOI for this project in the Federal Register on November 20, 2009. As a result of feedback received in the first scoping period and BPWE's further refinement of its proposal for the project, approximately 13,522 acres of Federal lands managed by the BLM were removed from the requested ROW area, the project was revised to eliminate construction of WTGs on the approximately 4,360 acres of private lands, and approximately 8,960 acres of Federal lands managed by the BOR were added to the requested ROW area. In addition, the revised application also seeks authorization from BLM for a linear ROW to allow construction of a transmission line to connect to the existing Moenkopi-El Dorado transmission line, approximately 6 miles south of the project area. As a result of these changes to the application and to further agency and public information about, and involvement in, the BLM's review of the application, this second NOI is being published and further scoping comments are solicited.

The purpose of the public scoping process is to determine relevant issues that will influence the scope of the environmental analysis, including alternatives, and guide the process for developing the EIS. At present, the BLM has identified the following preliminary issues: Access requirements; air quality during construction; cultural and historical resources; areas with high mineral potential; noise; sensitive soils and geology; recreation resources; socioeconomics; threatened and endangered species; visual resources; water resources; land with wilderness characteristics; and wildlife habitats. A Scoping Report summarizing the issues generated by public involvement for the original scoping period that concluded on January 8, 2010, is available at: http://www.blm.gov/az/st/en/prog/energy/wind/mohave.html.

In accordance with the National Historic Preservation Act, the BLM seeks to obtain the views of the public relating to the potential effects of the proposed project on historic properties, including prehistoric and historic sites, historic structures, and places of traditional cultural importance. Native American tribal consultations will be conducted in accordance with BLM's policy contained in BLM Manual 8120, and tribal concerns, including impacts on Indian trust assets, will be given due consideration. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 43 CFR 2800.

James G. Kenna,
Arizona State Director.

[FR Doc. 2010-18217 Filed 7-23-10; 8:45 am]

BILLING CODE 4310-32-P